DEPARTMENT OF TRANSPORTATION

Federal Aviation Administration

Metallic Materials Properties Development and Standardization (MMPDS) Handbook

AGENCY: Federal Aviation Administration (DOT).

ACTION: Notice of availability and request for public comment.

SUMMARY: This notice announces the availability of and request comments on the proposed Metallic Materials Properties Development and Standardization (MMPDS) Handbook to be used as the primary source of metallic properties for compliance. This proposed handbook will replace the now cancelled “Department of Defense Handbook: Metallic Materials and Elements for Aerospace Vehicle Structures,” (MIL-HDBK-5).

DATES: Submit comments on or before June 20, 2005.

ADDRESSES: Send all comments on the proposals to: John J. Petrakis, National Aging Aircraft Program Manager, Technical Program & Continued Airworthiness Branch, AIR-120, 800 Independence Ave., SW., Washington, DC 20591; telephone (202) 267-9274; fax (202) 267-5340. You may deliver comments to: Federal Aviation Administration, Room 815, 800 Independence Avenue, SW., Washington, DC 20591; or electronically submit comments to the following Internet address e-mail 9-AWA-AVR-AIR120-TechPrograms@faa.gov. Include in the subject line of your message the title of the document on which you are commenting.

FOR FURTHER INFORMATION CONTACT: Mr. John J. Petrakis, AIR-120, Room 815, Federal Aviation Administration, Aircraft Certification Service, Aircraft Engineering Division, 800 Independence Avenue, SW., Washington, DC 20591, Telephone (202) 267-9274, FAX: (202) 267-5340.

SUPPLEMENTARY INFORMATION:

Comments Invited

You are invited to comment on the proposed Handbook identified in this notice by submitting written data, views, or arguments to the address listed above. You may examine all comments revised on the proposed Handbook before and after the comment closing date at the Federal Aviation Administration, Room 815, 800 Independence Avenue, SW., Washington, DC 20591, weekdays except Federal holidays, between 8:30 a.m. and 4:30 p.m. The Director of the Aircraft Certification Service will consider all communications received on or before the closing date before issuing the final Handbook.

Background

Though now cancelled, “Metallic Materials and Elements for Aerospace Vehicle Structures” (MIL-HDBK-5) continues to be used as a primary source of statistically based design allowables for metallic materials and fastened joints used in the U.S. military and commercial aerospace design.

The FAA acknowledges the value of MIL-HDBK-5, and now the MMPDS, to commercial aircraft certification and maintenance of the commercial fleet. However, as such, the FAA's current budget constraints make continued funding of MMPDS uncertain.

How To Obtain Copies

You may get a copy of the proposed Handbook from the Internet at: http://www.faa.gov/certification/aircraft/DraftDoc/CommNotice.htm. You may also request a copy from Mr. John J. Petrakis. See the section entitled “FOR FURTHER INFORMATION CONTACT” for the complete address.

Issued in Washington, DC, on March 31, 2005.
Susan J.M. Cabler,
Assistant Manager, Aircraft Engineering Division, Aircraft Certification Service.

[FR Doc. 05-7212 Filed 4-8-05; 8:45 am]

BILLING CODE 4910-13-M